FEDERAL COMMUNICATIONS COMMISSION

47 CFR Part 73

[MB Docket No. 19-18; RM-11823; DA 19-44]

Television Broadcasting Services Gadsden and Hoover, Alabama

AGENCY: Federal Communications Commission.

ACTION: Proposed rule.

SUMMARY: At the request of ION Media License Company, LLC. (ION), licensee of television station WPXH-TV, channel 45, Gadsden, Alabama (WPXH), the Commission is proposing to amend the DTV Table of Allotments by changing WPXH's community of license from Gadsden to Hoover, Alabama. ION asserts that the proposed reallotment is consistent with the Commission's second allotment priority by providing Hoover with its first local transmission service. ION also asserts that the proposed reallotment will not deprive Gadsden of its sole broadcast station because it will continue to be served by station WPXH-TV, licensed to Trinity Christian Center of Santa Ana, Inc. on channel 26 at Gadsden.

DATES: Comments must be filed on or before March 15, 2019 and reply comments on or before March 25, 2019.

ADDRESSES: Federal Communications Commission, Office of the Secretary, 445 12th Street SW, Washington, DC 20554. In addition to filing comments with the FCC, interested parties should serve counsel for petitioner as follows: ION Media License Company, LLC, c/o Terri McGalliard, 601 Clearwater Park Road, West Palm Beach, Florida 33401.

FOR FURTHER INFORMATION CONTACT: Darren Fernandez, Media Bureau, at Darren.Fernandez@fcc.gov; or Joyce Bernstein, Media Bureau, at Joyce.Bernstein@fcc.gov.

SUPPLEMENTARY INFORMATION: This is a synopsis of the Commission's Notice of Proposed Rulemaking, MB Docket No. 19-18; RM-11823; DA 19-43, adopted February 5, 2019, and released February 5, 2019. In addition to the proposed reallotment, ION requests waivers of § 73.625(a)(1) of the Commission's rules, 47 CFR 73.625(a)(1) and the Commission's freeze on the filing of petitions for digital channel substitutions. The full text of this document is available for public inspection and copying during normal business hours in the FCC's Reference Information Center at Portals II, CY-A257, 445 12th Street SW, Washington, DC, 20554, or online at http://apps.fcc.gov/ecfs/. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

List of Subjects in 47 CFR Part 73 Television.

Federal Communications Commission.
Barbara Kreisman
Chief, Video Division, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, and 339.

§ 73.622 [Amended]

2. Section 73.622(i), the Post-Transition Table of DTV Allotments under Alabama, is amended by removing Gadsden, channel 45, and adding, in alphabetical order, Hoover, channel 45.

[FR Doc. 2019-03548 Filed 2-27-19; 8:45 am]

BILLING CODE 6712-01-P